DEPARTMENT OF THE INTERIOR

National Park Service

[NPS-WASO-NRNHL-15907; PPWOCRADI0, PCU00RP14.R50000]

National Register of Historic Places; Notification of Pending Nominations and Related Actions

Nominations for the following properties being considered for listing or related actions in the National Register were received by the National Park Service before May 24, 2014. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by June 27, 2014. Before including your address, phone number, email address, or other personal identifying information in your comment, you should be aware that your entire comment—including your personal identifying information—may be made publicly available at any time. While you can ask us in your comment to withhold your personal identifying information from public review, we cannot guarantee that we will be able to do so.

Dated: May 30, 2014.
J. Paul Loether,
Chief, National Register of Historic Places/National Historic Landmarks Program.

ALABAMA

Tuscaloosa County

Drish, Dr. John R. House, 2300 17th St., Tuscaloosa, 14000357

GEORGIA

DeKalb County

Ponce de Leon Terrace—Ponce de Leon Heights—Clairmont Estates Historic District, Roughly bounded by Ponce de Leon Pl., Scott Blvd., Nelson Ferry Rd., Ponce de Leon & Clairmont Aves., Decatur, 14000358

IOWA

Linn County

Best Oil and Refining Company Service Station, 624 12th Ave., SE., Cedar Rapids, 14000359

MAINE

Oxford County

Lovell Meeting House, 1133 Main St., Lovell, 14000360

Penobscot County

Dixmont Town House, 702 Western Ave., Dixmont, 14000361

Holden Town Hall, 723 Main Rd., Holden, 14000362

Waldo County

Village School, 69 School St., Unity, 14000363

MASSACHUSETTS

Essex County

Pine Grove Cemetery, 145 Boston St., Lynn, 14000364

Suffolk County

Dorchester South Burying Ground, 2095 Dorchester Ave., Boston, 14000365

MICHIGAN

Alger County

Bar Lake Site, (Woodland Period Archaeological Sites of the Indian River and Fishdam River Basins MPS) Address Restricted, Escanaba, 14000366

Hartney Terrace Site, (Woodland Period Archaeological Sites of the Indian River and Fishdam River Basins MPS) Address Restricted, Escanaba, 14000367

Widewaters Site, (Woodland Period Archaeological Sites of the Indian River and Fishdam River Basins MPS) Address Restricted, Escanaba, 14000368

Delta County

Gooseneck Lake III Site, (Woodland Period Archaeological Sites of the Indian River and Fishdam River Basins MPS) Address Restricted, Escanaba, 14000369

Gooseneck Lake IV Site, (Woodland Period Archaeological Sites of the Indian River and Fishdam River Basins MPS) Address Restricted, Escanaba, 14000370

Jackpine Lake Site, (Woodland Period Archaeological Sites of the Indian River and Fishdam River Basins MPS) Address Restricted, Escanaba, 14000371

Schoolcraft County

Thunder Lake II Site, (Woodland Period Archaeological Sites of the Indian River and Fishdam River Basins MPS) Address Restricted, Escanaba, 14000372

MISSOURI

Barry County

Downtown Monett Historic District, Parts of the 200-400 blks. of Broadway & Bond, Monett, 14000373

Cole County

West End Saloon, 700-702 W. Main St., Jefferson City, 14000374

Franklin County

Old Gerald School, 111 W. 3rd St., Gerald, 14000375

Jackson County

Perfection Stove Company Building, (Railroad Related Historic Commercial and Industrial Resources in Kansas City, Missouri MPS) 1200 Union Ave., Kansas City, 14000376

Wiltshire Apartment Hotel, The, (Working-Class and Middle-Income Apartment Buildings in Kansas City, Missouri MPS) 703 E. 10th St., Kansas City, 14000377

St. Louis Independent City

5882 Cabanne Courtyard Apartment Building, 5882 Cabanne Ave., St. Louis (Independent City), 14000380

Bellefontaine Cemetery, 4947 W. Florissant Ave., St. Louis (Independent City), 14000378

Downtown YMCA Building, 1528 Locust St., St Louis (Independent City), 14000379

OREGON

Linn County

Fish Lake Guard Station, 57600 McKenzie Hwy., McKenzie Bridge, 14000381

SOUTH CAROLINA

Charleston County

Old Georgetown Road, Old Georgetown Rd. between S. bank of the South Santee R. & SC 45, McClellanville, 14000382

UTAH

Sanpete County

Madsen, David and Evinda, House, 60 N. 100 W., Ephraim, 14000383

WISCONSIN

Bayfield County

West Bay Club, Sand Island, Bayfield, 14000385

WYOMING

Big Horn County

American Legion Hall, Post 32, 130 N. 5th St., Greybull, 14000386.

In the interest of preservation, a three day comment period has been requested for the following resource:

VIRGINIA

Accomack County

Tangier Island Historic District, W. Ridge, Main Ridge & Canton Rds., Tangier, 14000384.

A request for removal has been received for the following resource:

UTAH

Salt Lake County

Brooks Arcade, 260 S. State St., Salt Lake City, 82004133

[FR Doc. 2014-13691 Filed 6-11-14; 8:45 am]

BILLING CODE 4312-51-P